DEPARTMENT OF COMMERCE

International Trade Administration

A-570-877

Lawn and Garden Steel Fence Posts from the People's Republic of China: Final Results of Sunset Review and Revocation of Antidumping Duty Order

AGENCY: Import Administration, International Trade Administration, Department of Commerce.

SUMMARY: On May 2, 2007, the Department of Commerce (“the Department”) initiated the sunset review of the antidumping duty order on lawn and garden steel fence posts (“fence posts”) from the People's Republic of China (“PRC”). Because the domestic interested parties did not participate in the sunset review, the Department is revoking the antidumping duty order.

EFFECTIVE DATE: June 12, 2008

FOR FURTHER INFORMATION CONTACT: Andrea Staebler Berton or Juanita Chen AD/CVD Operations, Import Administration, International Trade Administration, U.S. Department of Commerce, 14th Street and Constitution Avenue, NW, Washington, DC 20230; telephone: (202) 482-4037 and (202) 482-1904.

SUPPLEMENTARY INFORMATION:

Background

On June 12, 2003, the Department issued an antidumping duty order on fence posts from the PRC. See Notice of Antidumping Duty Order: Lawn and Garden Steel Fence Posts from the People's Republic of China, 68 FR 35197 (June 12, 2003). Pursuant to section 751(c) the Tariff Act of 1930, as amended (“the Act”), and 19 CFR 351.218, the Department initiated the sunset review of this order. See Initiation of Five-year (“Sunset”) Review, 73 FR 24222 (May 2, 2008). The Department did not receive a notice of intent to participate in the sunset review from domestic interested parties by the deadline date. See 19 CFR 351.218(d)(1)(i). As a result, the Department determined that no domestic party intends to participate in the sunset review. On May 22, 2008, the Department notified the International Trade Commission of its intent to issue a final determination revoking this antidumping duty order.

Scope of the Order

The products covered by this order consist of all “U” shaped or “hat” shaped lawn and garden fence posts made of steel and/or any other metal, weighing 1 pound or less per foot, and produced in the PRC. The fence posts included within the scope of this order weigh up to 1 pound per foot and are made of steel and/or any other metal. Imports of these products are classified under the following categories: fence posts, studded with corrugations, knobs, studs, notches or similar protrusions with or without anchor posts and exclude round or square tubing or pipes.

These posts are normally made in two different classes, light and heavy duty. Light duty lawn and garden fence posts are normally made of 14 gauge steel (0.068 inches--0.082 inches thick), 1.75 inches wide, in 3, 4, 5, or 6 foot lengths. These posts normally weigh approximately 0.45 pounds per foot and are packaged in mini-bundles of 10 posts and master bundles of 400 posts. Heavy duty lawn and garden steel fence posts are normally made of 13 gauge steel (0.082 inches--0.095 inches thick), 3 inches wide, in 5, 6, 7, and 8 foot lengths. Heavy duty posts normally weigh approximately 0.90 pounds per foot and are packaged in mini-bundles of 5 and master bundles of 200. Both light duty and heavy duty posts are included within the scope of the order.

Imports of these products are classified under the Harmonized Tariff Schedule of the United States (“HTSUS”) subheading 7326.90.85.35. Fence posts classified under subheading 7308.90 are also included within the scope of the order if the fence posts are made of steel and/or metal.

Specifically excluded from the scope are other posts made of steel and/or other metal including “tee” posts, farm posts, and sign posts, regardless of weight.¹ Although the HTSUS subheadings are provided for convenience and customs purposes, the written description of the scope of the order is dispositive.

¹ Tee posts are made by rolling red hot steel into a “T” shape. These posts do not have tabs or holes to help secure fencing to them and have primarily farm and industrial uses.

Determination to Revoke

Pursuant to section 751(c)(3)(A) of the Act and 19 CFR 351.218(d)(1)(iii)(B)(3), if no domestic interested party responds to the notice of initiation, the Department shall issue a final determination revoking the order within 90 days after the initiation of the review. Because no domestic interested party filed a notice of intent to participate or a substantive response, the Department finds that no domestic interested party is participating in this review; therefore, we are revoking this antidumping duty order. Pursuant to section 751(c)(3)(A) of the Act and 19 CFR 351.222(i)(2)(i), the effective date of revocation is June 12, 2008 (i.e., the fifth anniversary of the date of publication in the Federal Register of the notice of the antidumping duty order). The Department will instruct U.S. Customs and Border Protection to terminate the suspension of liquidation and collection of cash deposits on entries of the subject merchandise entered or withdrawn from warehouse on or after June 12, 2008. Entries of subject merchandise prior to the effective date of revocation will continue to be subject to suspension of liquidation and antidumping duty deposit requirements. The Department will complete any pending administrative reviews of this order and will conduct administrative reviews of subject merchandise entered prior to the effective date of revocation in response to appropriately filed requests for review.

This five-year sunset review and notice are in accordance with section 751(c)(3)(A) and published pursuant to section 777(i)(1) of the Act.

Dated: June 30, 2008.
David M. Spooner,
Assistant Secretary for Import Administration.

[FR Doc. E8-16495 Filed 7-17-08; 8:45 am]

BILLING CODE 3510-DS-S